DEPARTMENT OF ENERGY

Federal Energy Regulatory Commission

[Docket No. OR06-6-000 and Enbridge Offshore Facilities, LLC]

Notice of Petition for Declaratory Order

March 24, 2006.

Take notice that on March 17, 2006, Enbridge Offshore Facilities, LLC (Enbridge) filed in Docket No. OR06-6-000, a petition for declaratory order, pursuant to Rule 207(a)(2) of the Commission's Rules of Practice and Procedure (18 CFR 385.207(a)(2)). Enbridge requests that the Commission issue an expedited decision on this petition no later than mid-June 2006.

Enbridge states that it is planning to construct a 20-inch diameter, 26-mile crude oil pipeline Enbridge Oil Pipeline from production facilities servicing the Neptune oil field in the Atwater Valley area approximately 170 miles south of New Orleans, Louisiana in the deepwater Gulf of Mexico, to Caesar Oil Pipeline. Enbridge Oil Pipeline is expected to commence service in 2007. Enbridge Oil Pipeline will also be available to serve fields to be developed in the future in the western Atwater Valley and eastern Green Canyon areas.

Enbridge states that the Enbridge Oil Pipeline will function in effect as an extension of Caesar Oil Pipeline. The Commission has approved contract carriage on Caesar Oil Pipeline,¹ and Caesar Oil Pipeline has entered into transportation agreements with producers in the Neptune Field under which Caesar Oil Pipeline has agreed to transport up to 60,000 barrels of oil per day from the Neptune Field on contract carriage terms. Enbridge asserts that if those shippers and others who may ship on Enbridge Oil Pipeline in the future are to be assured that they can take advantage of their full contract rights to ship on Caesar Oil Pipeline, they must also be able to contract for rights to ship on Enbridge Oil Pipeline. Without such complementary contractual rights to ship on Enbridge Oil Pipeline, shippers will be concerned about the possibility that common-carrier type pro rata allocation might be required on Enbridge Oil Pipeline under the provisions of 43 U.S.C. 1334(e)-(f) (2004). This would create a mismatch between the capacity for which shippers have contracted on Caesar Oil Pipeline and the capacity to which they have access on Enbridge Oil Pipeline to transport their oil to Caesar Oil Pipeline.

¹ Caesar Oil Pipeline, 102 FERC ¶ 61,339 at PP 1, 37-38 (2003).

Enbridge is concerned that in the absence of the declaratory order that it seeks, the potential for common-carrier type pro rata allocation on Enbridge Oil Pipeline will (1) result in shippers refusing to transport volumes on Enbridge Oil Pipeline due to such shippers' concern that they will be prevented from tendering their contracted-for volumes to Caesar Oil Pipeline, and (2) encourage shippers to build their own isolated, duplicative pipeline capacity as insurance against having to restrict production from their fields as a result of prorationing on Enbridge Oil Pipeline. Enbridge maintains that such uncertainty and unnecessary expense would discourage development of oil production and construction of efficient large-scale pipelines in the deepwater Gulf of Mexico.

Accordingly, Enbridge seeks the following:

A Commission declaration that Enbridge Oil Pipeline will be authorized to function as a contract carrier, hold on open season, enter into long-term transportation contracts reflecting contract carriage principles, give those contracts precedence in allocating capacity, and contract for capacity that remains available after the open season closes on a first-come, first-served basis, consistent with the Commission's ruling in Caesar Oil Pipeline, 102 FERC ¶ 61,339, at PP 1, 37 (2003).

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. eastern time on April 13, 2006.

Magalie R. Salas,
Secretary.

[FR Doc. E6-4645 Filed 3-29-06; 8:45 am]

BILLING CODE 6717-01-P